ENVIRONMENTAL PROTECTION AGENCY

[FRL-8323-2]

Reproposal of the Reissuance of Two General NPDES Permits (GPs), One for Aquaculture Facilities in Idaho Subject to Wasteload Allocations Under Selected Total Maximum Daily Loads (Permit Number IDG-13-0000) and One for Fish Processors Associated With Aquaculture Facilities in Idaho (Permit Number IDG-13-2000)

AGENCY: Environmental Protection Agency (EPA).

ACTION: Notice of additional modification of two draft general NPDES permits.

SUMMARY: On September 27, 2004, a general permit regulating the activities of aquaculture facilities in Idaho and associated on-site fish processors expired. On June 19, 2006, the Director, Office of Water and Watersheds, EPA Region 10, proposed to reissue three general permits to cover facilities covered under the previous permit. These general permits also will cover facilities currently operating under individual permits, thereby terminating the authorization to discharge under the individual permits. This additional public notice is to invite comments on revised limits for some of the covered facilities and revised requirements for pollutant trading among the facilities, as well as revised determinations on the effect on listed species under the Endangered Species Act.

DATES: Comments must be received or postmarked by July 9, 2007.

Public Comment: Interested persons may submit written comments on the changes to the draft permits to the attention of Sharon Wilson at the address below. All comments should include the name, address, and telephone number of the commenter and a concise statement of comment and the relevant facts upon which it is based. Comments of either support or concern which are directed at specific, cited permit requirements are appreciated.

After the expiration date of the Public Notice on July 9, 2007; the Director, Office of Water and Watersheds, EPA Region 10, will make a final determination with respect to issuance of the general permits. Response to comments from both comment periods will be published with the final permits. The proposed requirements contained in the draft general permits will become final 30 days after publication of the final permits in the Federal Register.

ADDRESSES: Comments on the proposed changes to the General Permits should be sent to Sharon Wilson, USEPA Region 10; 1200 Sixth Avenue, OWW-130; Seattle, Washington 98101 or by e-mail to wilson.sharon@epa.gov.

FOR FURTHER INFORMATION, CONTACT: Carla Fromm, 208-378-5755, fromm.carla@epa.gov or Sharon Wilson, 206-553-0325, wilson.sharon@epa.gov. Copies of the draft general permit and the fact sheets may be downloaded from the EPA Region 10 Web site at http://yosemite.epa.gov/R10/WATER.NSF/NPDES+Permits/General+NPDES+Permits#Aquaculture. They are also available upon request from Audrey Washington at (206) 553-0523, or e-mailed to washington.audrey@epa.gov.

SUPPLEMENTARY INFORMATION

Public Hearing

Written comments receive as much consideration as oral comments at a public hearing. Persons wishing to request a public hearing should submit their written request by July 9, 2007, stating the nature of the issues to be raised as well as the requester's name, address and telephone number to Sharon Wilson at the address above. If a public hearing is scheduled, notice will be published in the Federal Register. Notice will also be posted on the Region 10 Web site and will be mailed to all interested persons receiving notice of availability of the draft permits.

Administrative Record

The complete administrative record for the draft permit is available for public review at the EPA Region 10 office at the address listed above.

Other Legal Requirements

A. Endangered Species Act

EPA has determined that issuance of the General Permits is not likely to adversely affect threatened or endangered salmonids, designated critical habitat, or essential fish habitat. Issuance of the General Permits is likely to adversely affect threatened or endangered snail species or their designated critical habitat, due to possible impairment of the water quality needs of the snails through TSS and TP additions to receiving waters in the mid-Snake subbasin; this is a change from the determination for the previous public comment period. Issuance of the Wasteload Allocation Permit to four warm water facilities in Idaho is likely to affect the three listed snail species because of the increase in temperature of the receiving streams in the immediate vicinity of these facilities. EPA has determined that, due to location of the snails relative to the aquaculture facilities, the general permits for aquaculture facilities are not likely to adversely affect the Bruneau Hot Springsnail. EPA has determined that issuance of the General Permits will have no effect on any terrestrial threatened or endangered species or their designated critical habitat.

B. Executive Order 12866

EPA has determined that this general permit is not a “significant regulatory action” under the terms of Executive Order 12866 and is therefore not subject to OMB review.

C. Paperwork Reduction Act

The information collection requirements of this permit were previously approved by the Office of Management and Budget (OMB) under the provisions of the Paperwork Reduction Act, 44 U.S.C. 3501 et seq., and assigned OMB control numbers 2040-0086 (NPDES permit application) and 2040-0004 (discharge monitoring reports).

D. Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b) and are therefore not subject to the RFA.

E. Unfunded Mandates Reform Act

Section 201 of the Unfunded Mandates Reform Act (UMRA), Public Law 104-4, generally requires Federal agencies to assess the effects of their “regulatory actions” (defined to be the same as “rules” subject to the RFA) on tribal, State, and local governments and the private sector. However, general NPDES permits are not “rules” subject to the requirements of 5 U.S.C. 553(b) and are therefore not subject to the RFA or the UMRA.

Dated: May 30, 2007.
Michael F. Gearheard,
Director,Office of Water & Watersheds, Region 10.

[FR Doc. E7-11033 Filed 6-6-07; 8:45 am]

BILLING CODE 6560-50-P